DEPARTMENT OF COMMERCE

National Oceanic and Atmospheric Administration

Availability of Alternate Member Seats for the Hawaiian Islands Humpback Whale National Marine Sanctuary Advisory Council

AGENCY: National Marine Sanctuary Program (NMSP), National Ocean Service (NOS), National Oceanic and Atmospheric Administration, Department of Commerce (DOC).

ACTION: Notice and request for applications.

SUMMARY: The Hawaiian Islands Humpback Whale National Marine Sanctuary (HIHWNMS or Sanctuary) is seeking applicants for the following three vacant alternate member seats on its Sanctuary Advisory Council (Council): Hawaii County, Research, and Whale Watching. Applicants are chosen based upon their particular expertise and experience in relation to the seat for which they are applying; community and professional affiliations; philosophy regarding the conservation and management of marine resources; and the length of residence in the area affected by the Sanctuary. Applicants will serve as alternate members, fulfilling the duties of their member in his/her absence. Applicants who are chosen as alternate members should expect to serve two-year terms, pursuant to the Council's Charter.

DATES: Applications are due by July 31, 2001.

ADDRESSES: Application kits may be obtained from Kellie Cheung at the Hawaiian Islands Humpback Whale National Marine Sanctuary, 6700 Kalanianaole Hwy, Suite 104, Honolulu, Hawaii 96825. Completed applications should be sent to the same address.

FOR FURTHER INFORMATION CONTACT: Kellie Cheung at (808) 397-2651, or Kellie.Cheung@noaa.gov.

SUPPLEMENTARY INFORMATION: The HIHWNMS Advisory Council was established in March 1996 (the current Council has served since July 1998) to assure continued public participation in the management of the Sanctuary. Since its establishment, the Council has played a vital role in the decisions affecting the Sanctuary surrounding the main Hawaiian Islands.

The Council's twenty-three voting members represent a variety of local user groups, as well as the general public, plus ten local, state, and federal governmental jurisdictions.

The Council is supported by three working groups: the Research Subcommittee chaired by the Research Representative, the Education Subcommittee chaired by the Education Representative, and the Conservation Subcommittee chaired by the Conservation Representative, each respectively dealing with matters concerning research, education and resource protection.

The Council represents the coordination link between the Sanctuary and the state and federal management agencies, user groups, researchers, educators, policy makers, and other various groups that help to focus efforts and attention on the humpback whale and its habitat around the main Hawaiian Islands.

The Council functions in an advisory capacity to the Sanctuary Manager and is instrumental in helping to develop policies and program goals, and to identify education, outreach, research, long-term monitoring, resource protection and revenue enhancement priorities. The Council works in concert with the Sanctuary Manager by keeping him or her informed about issues of concern throughout the Sanctuary, offering recommendations on specific issues, and aiding the Manager in achieving the goals of the Sanctuary program within the context of Hawaii's marine programs and policies.

Authority: 16 U.S.C. Section 1431 et seq.

(Federal Domestic Assistance Catalog Number 11.429 Marine Sanctuary Program)

Dated: July 11, 2001.
Ted I. Lillestolen,
Deputy Assistant Administrator for Oceans and Coastal Zone Management.

[FR Doc. 01-17733 Filed 7-13-01; 8:45 am]

BILLING CODE 3570-08-M